DEPARTMENT OF STATE

[Public Notice: 4785]

60-Day Notice of Proposed Information Collection: DS 4053, Department of State Mentor-Protégé Program Application, OMB Control Number 1405-XXXX

ACTION: Notice of request for public comments.

SUMMARY: The Department of State is seeking Office of Management and Budget (OMB) approval for the information collection described below. The purpose of this notice is to allow 60 days for public comment in the Federal Register preceding submission to OMB. We are conducting this process in accordance with the Paperwork Reduction Act of 1995.

• Title of Information Collection: Department of State Mentor-Protégé Program Application.

• OMB Control Number: 1405-XXXX.

• Type of Request: New collection.

Originating Office: Bureau of Administration, Office of Small and Disadvantaged Business Utilization—A/SDBU.

• Form Number: DS 4053.

• Respondents: Small and large for-profit companies planning to team together in an official mentor-protégé capacity to improve the likelihood of winning DOS contracts.

• Estimated Number of Respondents: 20 respondents per year.

• Estimated Number of Responses: 10 per year.

• Average Hours Per Response: 21.

• Total Estimated Burden: 210.

• Frequency: On occasion.

• Obligation to Respond: Voluntary.

DATES: The Department will accept comments from the public up to 60 days from July 23, 2004.

ADDRESSES: You may submit comments by any of the following methods:

• E-mail: culbrethpb@state.gov. You must include the DS form number, information collection title, and OMB control number in the subject line of your message.

• Mail (paper, disk, or CD-ROM submissions): A/SDBU, Patricia Culbreth, SA-6, Room L-500, Washington, DC 20522-0602.

• Fax: 703-875-6825.

• Hand Delivery or Courier: 1701 North Ft. Myer Drive, Arlington, Virginia 22209.

FOR FURTHER INFORMATION CONTACT: Direct requests for additional information regarding the collection listed in this notice, including requests for copies of the proposed information collection and supporting documents, to Patricia Culbreth, A/SDBU, SA-6, Room L-500, Washington, DC 20522-0602 who may be reached on 703-875-6881. E-mail: culbrethpb@state.gov.

SUPPLEMENTARY INFORMATION: We are soliciting public comments to permit the Department to:

• Evaluate whether the proposed information collection is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of proposed collection:

• This information collection facilitates implementation of a mentor-protégé program that encourages business agreements between small and large for-profit companies planning to team together in an official mentor-protégé capacity to improve the likelihood of winning DOS contracts. Such a program should assist the State Department OSDBU office in reaching its small business goals.

Methodology:

• Respondents may submit the information by e-mail using DS-4053, or by letter using fax or postal mail.

Additional Information: None.

Dated: June 21, 2004.
Durie N. White,
Operations Director, Office of Small and Disadvantaged Business Utilization, Department of State.

[FR Doc. 04-16859 Filed 7-22-04; 8:45 am]

BILLING CODE 4710-24-U